DEPARTMENT OF COMMERCE

National Oceanic and Atmospheric Administration

50 CFR Part 635

[I.D. 110102J]

Atlantic Highly Migratory Species Fisheries; Atlantic Bluefin Tuna; Petition for Rulemaking

AGENCY: National Marine Fisheries Service (NMFS), National Oceanic and Atmospheric Administration (NOAA), Commerce.

ACTION: Notice of receipt of a petition for rulemaking; request for comments.

SUMMARY: NMFS announces receipt of, and requests public comment on, a petition from the North Carolina Division of Marine Fisheries (Petitioner) to initiate rulemaking to amend the current Atlantic bluefin tuna (BFT) allocation criteria and to create a winter time-period subquota. The Petitioner has requested that NMFS commence the rulemaking process as soon as possible.

DATES: Comments must be received no later than 5 p.m., Eastern Standard Time, on December 18, 2002.

ADDRESSES: Written comments on the petition should be sent to Brad McHale, Highly Migratory Species Management Division, National Marine Fisheries Service, One Blackburn Drive, Gloucester, MA 01930-2298. Mark on the outside of the envelope: “Comments on Petition for Rulemaking.” Comments may also be sent via a facsimile (fax) to (978) 281-9340. Comments will not be accepted if submitted via e-mail or the Internet. Copies of the letter constituting the petition are available upon request at the address mentioned above.

FOR FURTHER INFORMATION CONTACT: Brad McHale, Fishery Management Specialist, (978) 281-9260.

SUPPLEMENTARY INFORMATION:

Petition for Rulemaking

On October 16, 2002, the Petitioner submitted a request to NMFS to initiate rulemaking for a regulatory amendment to 50 CFR 635.27 that would allocate 23 percent of the General category BFT quota to a new December 1 through January 31 time-period subquota. In 2002, the initial General Category quota equaled 647 mt, thus 23 percent would equal 150 mt. The Petitioner states that the quota allocated to the late season General category fishery does not provide reasonable opportunity to harvest BFT when they appear off the South Atlantic coast. The Petitioner believes that there is inequity in the current General category BFT management scheme and that it is necessary to create a General category December through January subquota to ensure fair and equitable treatment to all General category permit holders. The Petitioner explains that the current allocation of General category quota disadvantages General category permit holders who wish to commercially pursue BFT in the South Atlantic, confounds the collection of fishery data, and confounds management for optimum yield.

The Petitioner notes that the proposed amendment could remedy the above inequities, address concerns over National Standard 4, benefit all U.S. BFT fishermen, and have significant economic benefits to South Atlantic fishing communities. The Petitioner also recognizes the proposed amendment could have some negative effects on participants who exploit available quota during earlier time-period subquotas. However, the Petitioner believes that the negative impacts could be mitigated if New England fishermen elect to pursue the BFT as they move south of the South Atlantic states.

The Petitioner acknowledges that operating under the National Standards set forth in the Magnuson-Stevens Fishery Conservation and Management Act is a NOAA priority and policy. To that end, the Petitioner believes that the proposed amendment addresses serious issues related to several National Standards. The Petitioner also believes that the proposed amendment is consistent with specific objectives contained in the Fishery Management Plan for Atlantic Tunas, Swordfish and Sharks (HMS FMP), including improved coordination of domestic conservation and management of the highly migratory species fisheries, considering the multi-species nature of these fisheries, overlapping regional and individual participation, international management concerns, and other relevant factors, as well as maintaining the fishing season and geographic range of the fishery within its historic context to improve scientific monitoring and enhance fishing opportunities. In addition, the Petitioner notes that the 2002 quota specifications and General category effort controls acknowledge that the BFT fishery has changed in recent years with higher catch rates in the fall/winter. According to Petitioner, the proposed amendment would allow more time to harvest the General category subquota and minimize the need to increase harvest limits to levels that could negatively affect prices to U.S. fishermen in international markets.

Issue Background

The request made by the Petitioner has been recently discussed in several public forums. During the development of the issue of opening a southern commercial handgear BFT fishery, the HMS Advisory Panel and public extensively discussed establishing a set-aside quota for a North Carolina General category fishery. However, the HMS AP did not reach consensus on whether or not to allow a new southern commercial fishery. At that time, NMFS maintained its position that allowing new gear types and large scale fisheries for BFT would not be consistent with rebuilding overfished stocks and preventing overfishing. In analyzing a variety of long-term effort controls in the BFT fishery, the HMS FMP concluded that the status quo management regime for the General category would assist attainment of optimum yield and address allocation issues by lengthening the season over time and space in a category with high participation and catch rates.

During the 2002 HMS AP meeting, representatives from North Carolina presented a proposal to allocate General category BFT quota during a time and/or in an area so that North Carolina fishermen would have local access to the commercial handgear fishery. The HMS AP again extensively discussed the issue but did not reach consensus.

During the comment period for the 2002 BFT Quota Specifications and General Category Effort controls, NMFS received numerous comments, stating that North Carolina should have its own winter General category set-aside quota. These comments also stated that the current General category allocation scheme discriminates between residents of different states and fails to provide equitable fishing opportunities across different geographical areas. Commenters also requested that there be a December through January time-period subquota established for southern states.

At that time, NMFS maintained the current quota allocation scheme and did not implement a specific set-aside quota for North Carolina. NMFS stated it would continue to assess the order of magnitude and scope of the fishing activities that would be associated with a North Carolina General category BFT fishery and would continue to work with the HMS AP to address potential solutions.

Request for Comments

This document solicits comments from the public regarding the need to proceed with rulemaking to amend the current General category BFT quota allocation schedule and the provision that closes the General category BFT fishery on December 31 of each year. NMFS is specifically requesting that the public provide comments on the social, economic, and biological impacts this regulatory amendment would have on the General category BFT Fishery. NMFS will consider this information in determining whether to proceed with the development of amended regulations requested by the petition.

Dated: November 12, 2002.
John H. Dunnigan,
Director, Office of Sustainable Fisheries, National Marine Fisheries Service.

[FR Doc. 02-29215 Filed 11-15-02; 8:45 am]

BILLING CODE 3510-22-S